DEPARTMENT OF DEFENSE

Office of the Secretary

Notice of Intent To Obtain Information Regarding Organizations Who Are Assisting African Governments To Increase Healthcare Institution Capacity To Maintain Complex Medical Equipment

AGENCY: United States Africa Command, DoD.

ACTION: Notice of intent to obtain information regarding organizations active in this area, for the purpose of information sharing.

SUMMARY: This notice announces that the U.S. Africa Command (AFRICOM) is seeking information about organizations, both public or private, which are currently helping African government hospitals, clinics, laboratories, and other African governmental health institutions put in place trained and certified biomedical technicians, sustainable maintenance and supply capabilities, and/or standards and training for the maintenance and use of complex medical equipment. The organizations sought are of two types: (1) Organizations which are sustainably involved in enhancing the long term ability of African government health institutions to maintain complex medical equipment or (2) African government health institutions with the ability to substantiate their capability to maintain complex medical equipment. This information is being solicited to inform AFRICOM of potential capacity to improve the impact of AFRICOM's Excess Property Program. Information provided to AFRICOM is not for the purposes of obtaining a contract, nor would the information provided guarantee an excess property donation to any African country.

DATES: Submission of information is continuous on or before September 30, 2012.

ADDRESSES: Entities wishing to inform AFRICOM of their work in Africa and their interest in sharing information may write or email Rebecca Balogh at Rebecca.balogh@usafricom.mil or call +49 711 729 4439 or Ms. Rebecca Balogh, Senior Lead, Public Private Partnerships, Plieninger Strasse 289, Stuttgart Moehringen, 70567. Additional instructions will be provided after contact.

FOR FURTHER INFORMATION CONTACT: AFRICOM J9—Outreach Directorate, +49 711 729 4439 or at Rebecca.balogh@usafricom.mil. Alternative contact: Richard Parker, +49 711 729 2000 or Richard Parker at richard.parker@usafricom.mil.

SUPPLEMENTARY INFORMATION: There are no fees involved and no funding will be provided. Organizations sought are both public and private and are sustainably involved in enhancing the long term ability of African government institutions to maintain complex medical equipment or will be the African government institutions themselves with the ability to prove their capability to maintain complex medical equipment. AFRICOM, through U.S. Embassies' Offices of Security Cooperation and in coordination with their respective Embassy Country Team in Africa, will begin to entertain requests for excess complex medical equipment from African Government health facilities provided they submit an acceptable sustainability plan for such requested equipment and meet all other traditional requirements of the Defense Security Cooperation Agency's (DSCA) Overseas Humanitarian Disaster Assistance and Civic Aid (OHDACA) program. This new policy of proactively seeking organizations who are involved in similar efforts is called the Next Level Up.

Information partnerships do not necessarily lead to fulfillment of requests of excess complex medical equipment and only African governmental health institutions such as hospitals, clinics, and laboratories may request potential donations of excess complex medical equipment through their local U.S. Embassy. In addition, not all U.S. Embassies in Africa entertain requests for excess property. Requests for such equipment must meet all traditional requirements in accordance with law and DSCA policy guidance. The information sought will be used to more effectively identify potential recipients.

Dated: June 20, 2012.
Aaron Siegel,
Alternate OSD Federal Register Liaison Officer, Department of Defense.

[FR Doc. 2012-15386 Filed 6-22-12; 8:45 am]

BILLING CODE 5001-06-P